DEPARTMENT OF THE INTERIOR

Minerals Management Service

[Docket No. MMS-2007-OMM-0075]

MMS Information Collection Activity: 1010-0068—30 CFR Part 250, Subpart M, Unitization, Extension of a Collection; Submitted for Office of Management and Budget (OMB) Review; Comment Request

AGENCY: Minerals Management Service (MMS), Interior.

ACTION: Notice of extension of an information collection (1010-0068).

SUMMARY: To comply with the Paperwork Reduction Act of 1995 (PRA), we are notifying the public that we have submitted to OMB an information collection request (ICR) to renew approval of the paperwork requirements in the regulations under 30 CFR 250, Subpart M, Unitization. This notice also provides the public a second opportunity to comment on the paperwork burden of these regulatory requirements.

DATE: Submit written comments by July 31, 2008.

ADDRESSES: You should submit comments directly to the Office of Information and Regulatory Affairs, OMB, Attention: Desk Officer for the Department of the Interior (1010-0141), either by fax (202) 395-6566 or e-mail (OIRA_DOCKET@omb.eop.gov).

Please also send a copy to MMS by either of the following methods:

• http://www.regulations.gov. Under the tab “More Search Options,” click Advanced Docket Search, then select “Minerals Management Service” from the agency drop-down menu, then click “submit.” In the Docket ID column, select MMS-2007-OMM-0075 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0068” in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 250, Subpart M, Unitization.

OMB Control Number: 1010-0068.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1334(a) specifies that the Secretary “provide for the prevention of waste and conservation of the natural resources of the [O]uter Continental Shelf, and the protection of correlative rights therein” and include provisions for “unitization, pooling, and drilling agreements.”

Regulations implementing these responsibilities are under 30 CFR Part 250, Subpart M, Unitization. Responses are mandatory and generally on occasion or they are required to obtain or retain a benefit. No questions of a “sensitive” nature are asked. The MMS protects information considered proprietary according to the Freedom of Information Act (5 U.S.C. 552) and its implementing regulations (43 CFR 2), and 30 CFR 250.197, “Data and information to be made available to the public or for limited inspection,” and 30 CFR Part 252, “OCS Oil and Gas Information Program.”

The MMS Regional Supervisor must approve any lessee's proposal to enter an agreement to unitize operations under two or more leases. We must also approve modification of a unit agreement when changes in circumstances warrant. We encourage unitization of operations on OCS leases where unitized operations will further exploration of prospective geological structures; increase the ultimate recovery of oil and gas or sulphur reserves; lead to more efficient operation of leases and reservoirs; and/or is necessary to protect correlative rights. Unitization can be particularly beneficial in high-cost, high-risk OCS areas. Lessees submit consolidated Exploration Plans and Development and Production Plans for a unit area. We use the information to ensure that operations under the proposed unit agreement will result in preventing waste, conserving natural resources, and protecting correlative rights including the government's interests. We need to review all pertinent data before determining competitiveness of a reservoir or deciding that compelling unitization will achieve the desired results.

Frequency: On occasion.

Estimated Number and Description of Respondents: Approximately 130 respondents (Federal oil and gas OCS lessees).

Estimated Reporting and Recordkeeping “Hour” Burden: The estimated annual “hour” burden for this information collection is a total of 4,913 hours. The following chart details the individual components and estimated hour burdens. In calculating the burdens, we assumed that respondents perform certain requirements in the normal course of their activities. We consider these to be usual and customary and took that into account in estimating the burden.

Citation 30 CFR 250 Subpart M | Reporting requirement | Hour burden | Average number annual responses | Annual burden hours
|  | Non-hour cost burdens
Requests
1301(d), (f)(3), (g)(1), (g)(2)(ii) | Request suspension of production or operations | Burden covered in 1010-0114. |  | 0
1302(b) | Request preliminary determination on competitive reservoir | 39 | 1 request | 39
1304(b) | Request compulsory unitization, including submitting unit agreement, unit operating agreement, initial plan of operation, and supporting data; serving non-consenting lessees with documents | 161 | 1 request | 161
1304(d) | Request hearing on required unitization | 1 | 1 request | 1
Subtotal |  |  | 3 responses | 201
Submittals
1302(b) | Submit concurrence or objection on competitiveness with supporting evidence | 39 | 1 request | 39
1302(c), (d) | Submit joint plan of operations, supplemental plans, or a separate plan if agreement cannot be reached | 39 | 1 plan | 39
1303; 1304 | *Submit revisions or modifications to unit agreement, unit operating agreement, plan of operation, change of unit operator, etc | 8 | 54 revs/mods | 432
|  | $760 fees × 54 revisions/modifications = $41,040.
1303; 1304 | *Submit initial, and revisions to, participating area | 48 | 24 submissions | 1,152
1304(e) | Submit statement at hearing on compulsory unitization | 5 | 1 statement | 5
1304(e) | Pay for and submit three copies of verbatim transcript of hearing | 1 | 1 submission | 1
|  | Court reporter and 3 transcript copies for 1 hearing = $500.
Subtotal |  |  | 82 responses | 1,668
|  |  | $41,540 non-hour cost burdens
General
1301 | General description of requirements | Burden included in the following sections. |  | 0
1303 | Apply for voluntary unitization, including submitting unit agreement, unit operating agreement, initial plan of operation, and supporting data; request for variance from model agreement and other related requirements | 169 | 18 apps/plans | 3,042
|  | $10,700 fee × 18 applications/plans = $192,600.
|  | Due to ongoing litigation in the Pacific Region, respondents did not submit burden data.
1304(f) | Appeal final order of compulsory unitization | Exempt as defined in 5 CFR 1320.4(a)(2), (c). |  | 0
1300-1304 | General departure and alternative compliance requests not specifically covered elsewhere in subpart M regulations | 1 | 2 requests | 2
Subtotal |  |  | 20 responses | 3,044
|  |  | $192,600 non-hour cost burden
Total Burden |  |  | 105 responses | 4,913
|  |  | $234,140 Non-Hour Cost Burdens

Estimated Reporting and Recordkeeping “Non-Hour Cost” Burden: There are three non-hour costs associated with this information collection. The estimated non-hour cost burden is $234,140. Section 250.1303 has two fees requiring respondents to pay a filing fee when applying for a voluntary unitization proposal or unit expansion, and a fee for unitization revision. The filing fees are required to recover the Federal Government's processing costs. Section 250.1304(d) provides an opportunity for parties notified of compulsory unitization to request a hearing; therefore, section 250.1304(e) requires the party seeking the compulsory unitization to pay for the court reporter and copies of the verbatim transcript of the hearing. It should be noted there have been no such hearings in the recent past, and none are expected in the near future. We estimate that the burden would be less than $500 to reproduce the copies and hire the reporter. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 26, 2007, we published a Federal Register notice (72 FR 73041) announcing that we would submit this ICR to OMB for approval. The notice provided the required 60-day comment period. In addition, § 250.199 provides the OMB control number for the information collection requirements imposed by the 30 CFR 250 regulations. The regulation also informs the public that they may comment at any time on the collections of information and provides the address to which they should send comments. We received one comment in response to these efforts from a private citizen, B. Sachau, and the comment was not germane to the paperwork burden of this collection.

If you wish to comment in response to this notice, you may send your comments to the offices listed under the ADDRESSES section of this notice. The OMB has up to 60 days to approve or disapprove the information collection but may respond after 30 days. Therefore, to ensure maximum consideration, OMB should receive public comments by July 31, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

April 23, 2008.
E.P. Danenberger,
Chief, Office of Offshore Regulatory Programs.

[FR Doc. E8-14892 Filed 6-30-08; 8:45 am]

BILLING CODE 4310-MR-P